DEPARTMENT OF STATE

[Public Notice #3267]

Secretary of State's Arms Control and Nonproliferation Advisory Board; Notice of Closed Meetings

In accordance with section 10(a)(2) of the Federal Advisory Committee Act, 5 U.S.C. app 2 § 10(a)(2)(1996), the Secretary of State announces the following Arms Control and Nonproliferation Advisory Board (ACNAB) meetings:

Date | Location
April 12, 2000 | Department of State, Washington, DC.
May 8-9, 2000 | Department of State, Washington, DC.
June 5-6, 2000 | Department of State, Washington, DC.
July 19-20, 2000 | SANDIA, Albuquerque, NM.
August 28-29, 2000 | Department of State, Washington, DC.
September 21-22, 2000 | Livermore National Laboratory, Livermore, CA.
October 26-27, 2000 | Department of State, Washington, DC.
November 2-3, 2000 | Patrick Air Force Base, Cocoa Beach, FL.
December 5-6, 2000 | Department of State, Washington, DC.

Pursuant to Section 10(d) of the Federal Advisory Committee Act, 5 U.S.C. app 2 § 10(d)(1996), and in accordance with Executive Order 12958, in the interest of national defense and foreign policy, it has been determined that these Board meetings will be closed to the public, since the ACNAB members will be reviewing and discussing classified matters.

The purpose of this Advisory Board is to advise the President and the Secretary of State on scientific, technical, and policy matters affecting arms control. The Board will review specific arms control and nonproliferation issues. Members will be briefed on current U.S. policy and issues regarding negotiations such as the Convention on Conventional Weapons and the Chemical and Biological Weapons Convention.

The Board deeply regrets the short notice which was necessitated by a medical emergency. For more information concerning the meetings, please contact Robert Sherman, Executive Director, Arms Control and Nonproliferation Advisory Board, at (202) 647-1192.

Dated: April 6, 2000.
Robert Sherman,
Executive Director, Secretary of State's Arms Control and Nonproliferation Advisory Board, U.S. Department of State.

[FR Doc. 00-9081 Filed 4-7-00; 3:54 pm]

BILLING CODE 4710-27-P